INTERNATIONAL TRADE COMMISSION

[Investigation Nos. 701-TA-470-471 and 731-TA-1169-1170 (Final)]

Certain Coated Paper Suitable For High-Quality Print Graphics Using Sheet-Fed Presses From China and Indonesia

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is threatened with material injury ² ³ by reason of imports of certain coated paper suitable for high-quality print graphics using sheet-fed presses (“certain coated paper”) from China and Indonesia, provided for in subheadings 4810.14.11, 4810.14.19, 4810.14.20, 4810.14.50, 4810.14.60, 4810.14.70, 4810.19.11, 4810.19.19, 4810.19.20, 4810.22.10, 4810.22.50, 4810.22.60, 4810.22.70, 4810.29.10, 4810.29.50, 4810.29.60, 4810.29.70, 4810.32, 4810.39, and 4810.92, of the Harmonized Tariff Schedule of the United States, that the U.S. Department of Commerce has determined are subsidized by the Governments of China and Indonesia and sold in the United States at less than fair value (“LTFV”).

¹ The record is defined in sec. 207.2(f) of the Commission's Rules of Practice and Procedure (19 CFR 207.2(f)).

² Commissioner Charlotte R. Lane determines that the domestic certain coated paper industry is materially injured by reason of imports of the subject merchandise from China and Indonesia.

³ Chairman Deanna Tanner Okun, Commissioner Daniel R. Pearson, Commissioner Shara L. Aranoff, Commissioner Irving A. Williamson, and Commissioner Dean A. Pinkert determine that they would not have found material injury but for the suspension of liquidation.

Background

The Commission instituted these investigations effective September 23, 2009, following receipt of a petition filed with the Commission and Commerce by Appleton Coated, LLC, Kimberly, WI; NewPage Corp., Miamisburg, OH; Sappi Fine Paper North America, Boston, MA; and the United Steel, Paper and Forestry, Rubber Manufacturing, Energy, Allied Industrial and Service Workers International Union (“USW”). The final phase of the investigations was scheduled by the Commission following notification of preliminary determinations by Commerce that imports of certain coated paper from China and Indonesia were subsidized by the Governments of China and Indonesia within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on May 25, 2010 (75 FR 29364). The hearing was held in Washington, DC, on September 16, 2010, and all persons who requested the opportunity were permitted to appear in person or by counsel.

The Commission transmitted its determinations in these investigations to the Secretary of Commerce on November 10, 2010. The views of the Commission are contained in USITC Publication 4192 (November 2010), entitled Certain Coated Paper Suitable for High-Quality Print Graphics Using Sheet-Fed Presses from China and Indonesia: Investigation Nos. 701-TA-470-471 and 731-TA-1169-1170 (Final).

By order of the Commission.
Issued: November 10, 2010.
Marilyn R. Abbott,
Secretary to the Commission.

[FR Doc. 2010-28863 Filed 11-16-10; 8:45 am]

BILLING CODE 7020-02-P